NUCLEAR REGULATORY COMMISSION

[Docket No. 50-395]

South Carolina Electric and Gas Company, V. C. Summer Nuclear Station; Exemption

1.0 Background

South Carolina Electric & Gas Company (SCE&G) is the holder of Facility Operating License No. NPF-12, which authorizes operation of the V.C. Summer Nuclear Station (the facility), at steady-state core power levels not in excess of 2900 megawatts thermal. The license provides, among other things, that the V. C. Summer Nuclear Station is subject to all rules, regulations, and orders of the Commission now or hereafter in effect.

The facility consists of a pressurized water reactor located in Fairfield County in South Carolina.

2.0 Purpose

Pursuant to Title 10 of the Code of Federal Regulations (10 CFR) Section 55.59(a)(1), each licensed operator is required to successfully complete a requalification program developed by the licensee that has been approved by the Commission. This program is to be conducted for a continuous period not to exceed 24 months in duration and upon its conclusion must be promptly followed by a successive requalification program. In addition, pursuant to 10 CFR 55.59(a)(2), each licensed operator must pass a comprehensive requalification written examination and an annual operating test.

The Code of Federal Regulations at 10 CFR 55.11 states that “The Commission may, upon application by an interested person, or upon its own initiative, grant such exemptions from the requirements of the regulations in this part as it determines are authorized by law and will not endanger life or property and are otherwise in the public interest.”

3.0 Discussion

By letter dated January 12, 2001, SCE&G requested a change to the cycle dates for the 2-year requalification training program required by 10 CFR 55.59. This request constitutes a request for exemption under 10 CFR 55.11 from the requirements of 10 CFR 55.59(a)(1) and (a)(2). The schedular exemption requested would extend the period for the current cycle of the V. C. Summer Nuclear Station requalification program from May 31, 2001, to August 31, 2001. The next requalification period would begin on September 1, 2001, and end on August 31, 2003, with subsequent requalification periods remaining on a September to August schedule. On October 13, 2000, during routine shutdown inspections, SCE&G discovered a leak in a weld in the reactor coolant system. Activities to determine the root cause and extent of this condition and to repair the leak extended through the end of February 2001, months beyond the original scheduled plant restart. To provide the necessary level of licensed operator support to ensure safety throughout the extended plant outage, SCE&G postponed the training and other requalification program activities originally planned during that time. The affected licensed operators will continue to demonstrate and possess the required levels of knowledge, skills, and abilities needed to safely operate the plant throughout the transitional period via continuation of the current licensed operator requalification program, and the limited 3-month delay in completion of requalification for the current perod will have a negligible effect on operator qualification.

4.0 Conclusion

Accordingly, the Commission has determined that pursuant to 10 CFR 55.11, granting an exemption to SCE&G from the requirements in 10 CFR 55.59(a)(1) and (a)(2) is authorized by law and will not endanger life or property and is otherwise in the public interest.

Therefore, the Commission hereby grants SCE&G an exemption from the schedular requirements of 10 CFR 55.59(a)(1) and (2) to allow the period for current cycle of the V. C. Summer Nuclear Station requalification program to be extended beyond 24 months but not exceeding 27 months, expiring on August 31, 2001. The successive 2-year requalification cycles will continue with September 1 as the start date and August 31 as the end date.

Pursuant to 10 CFR 51.32, the Commission has determined that the granting of this exemption will not have a significant effect on the quality of the human environment (66 FR 29187).

This exemption is effective upon issuance, and expires on August 31, 2001.

Dated at Rockville, Maryland, this 29th day of May 2001.
For the Nuclear Regulatory Commission.
Bruce A. Boger,
Director, Division of Inspection Program Management, Office of Nuclear Reactor Regulation.

[FR Doc. 01-13901 Filed 6-1-01; 8:45 am]

BILLING CODE 7590-01-P